COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products to the Procurement List that will be furnished by a nonprofit agency employing persons who are blind or have other severe disabilities, and deletes products and services previously furnished by such agencies.

DATES: Comments must be received on or before: June 04, 2018.

ADDRESSES: Committee for Purchase From People Who Are Blind or Severely Disabled, 1401 S Clark Street, Suite 715, Arlington, Virginia, 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products listed below from the nonprofit agency employing persons who are blind or have other severe disabilities.

The following products are proposed for addition to the Procurement List for production by the nonprofit agency listed:

Products

NSN—Product Name:

2540-00-248-4603—Blade, Windshield Wiper, HMMW Vehicle, 18″L

2540-01-262-7708—Blade, Windshield Wiper, HMMW Vehicle, 20″L

2540-01-271-8026—Blade, Windshield Wiper, HMMW Vehicle, 16″L

2540-01-377-3125—Arm, Windshield Wiper, HMMW Vehicle, 20″L

2540-01-454-0415—Blade, Refill, Windshield Wiper, HMMW Vehicle, 20 ½″L

Mandatory Source of Supply: Center for the Blind and Visually Impaired, Atlanta, GA

Mandatory for: 100% of the requirement of the Department of Defense

Contracting Activity: DLA Land and Maritime

Deletions

The following products and services are proposed for deletion from the Procurement List:

Products

NSN(s)—Product Name(s):

8415-00-NSH-0687—Pants, Level 1, PCU, Army, Brown, M

Mandatory Source of Supply: Southeastern Kentucky Rehabilitation Industries, Inc., Corbin, KY

Contracting Activity: W6QK ACC-APG NATICK

NSN(s)—Product Name(s):

8415-01-519-7444—Pants, Level 1, PCU, Army, Brown, M

Mandatory Source of Supply: Southeastern Kentucky Rehabilitation Industries, Inc., Corbin, KY

Contracting Activity: W6QK ACC-APG NATICK

Services

Service Type: Switchboard Operation Service

Mandatory for: 4th Communication Squadron: 1695 Wright Brothers Avenue Seymour Johnson AFB, NC

Mandatory Source of Supply: Coastal Enterprises of Jacksonville, Inc., Jacksonville, NC

Contracting Activity: DEPT OF THE AIR FORCE, FA4809 4TH CONS SQDN CC

Service Type: Janitorial/Custodial Service

Mandatory for: Indiana Air National Guard, 181st Fighter Wing: Hulman Regional Airport, 800 South Petercheff, Terre Haute, IN

Mandatory Source of Supply: Child-Adult Resource Services, Inc., Rockville, IN

Contracting Activity: DEPT OF THE AIR FORCE, FA7014 AFDW PK

Service Type: Custodial Service

Mandatory for: David W. Dyer Federal Building—Courthouse, 300 NE First Ave., Miami, FL

Mandatory Source of Supply: Goodwill Industries of South Florida, Inc., Miami, FL

Contracting Activity: PUBLIC BUILDINGS SERVICE, ACQUISITION DIVISION/SERVICES BRANCH

Service Type: Janitorial/Custodial Service

Mandatory for: 183rd Fighter Wing Air National Guard Capitol Airport, 3101 J. David Jones Parkway, Springfield, IL

Mandatory Source of Supply: United Cerebral Palsy of the Land of Lincoln, Springfield, IL

Contracting Activity: DEPT OF THE ARMY, W7M6 USPFO ACTIVITY IL ARNG

Service Type: Laundry Service, Mandatory for: Air National Guard-Sioux City, 2920 Headquarters Avenue, Sioux City, IA

Mandatory Source of Supply: Genesis Development, Jefferson, IA

Contracting Activity: DEPT OF THE AIR FORCE, FA7014 AFDW PK

Service Type: Food Service

Mandatory for: Volk Field Air National Guard, 100 Independence Drive, Camp Douglas, WI

Mandatory Source of Supply: Challenge Unlimited, Inc., Alton, IL

Contracting Activity: DEPT OF THE AIR FORCE, FA7014 AFDW PK

Service Type: Grounds Maintenance Service

Mandatory for: 130th Airlift Squadron, 1679 Coonskin Dr., Unit #36, Charleston, WV

Mandatory Source of Supply: Goodwill Industries of Kanawha Valley, Charleston, WV

Contracting Activity: DEPT OF THE ARMY, W7N7 USPFO ACTIVITY WV ARNG

Service Type: Grounds Maintenance Service

Mandatory for: Admiral Bakerfield Army Reserve Center, San Diego, CA

Mandatory Source of Supply: Job Options, Inc., San Diego, CA

Contracting Activity: DEPT OF THE NAVY, U S FLEET FORCES COMMAND

Amy Jensen,
Director, Business Operations.

[FR Doc. 2018-09529 Filed 5-3-18; 8:45 am]

BILLING CODE 6353-01-P